DEPARTMENT OF COMMERCE

National Oceanic and Atmospheric Administration

RIN 0648-XB42

Endangered and Threatened Species; Recovery Plans

AGENCY: National Marine Fisheries Service (NMFS), National Oceanic and Atmospheric Administration, Commerce.

ACTION: Notice of availability; recovery plan and 5-year review for the Hawaiian monk seal.

SUMMARY: The National Marine Fisheries Service (NMFS) announces the adoption of an Endangered Species Act (ESA) Recovery Plan (Recovery Plan) and 5-year review for the Hawaiian monk seal (Monachus schauinslandi). The Recovery Plan contains revisions and additions in consideration of public comments on the proposed draft Recovery Plan for the Hawaiian Monk Seal. This is the first 5-year review completed for the Hawaiian monk seal.

ADDRESSES: Additional information about the Recovery Plan and 5-year review may be obtained by writing to Dr. Michelle Yuen, National Marine Fisheries Service, Pacific Islands Regional Office, Protected Resources Division, 1601 Kapiolani Boulevard Suite 1110, Honolulu, HI, 96814 or send an electronic message to michelle.yuen@noaa.gov.

Electronic copies of the Recovery Plan, the 5-year review, and a summary of NMFS's response to public comments on the Recovery Plan are available online at the NMFS Office of Protected Resources website: www.nmfs.noaa.gov/pr/species/mammals/pinnipeds/hawaiianmonkseal.htm

FOR FURTHER INFORMATION CONTACT: Michelle Yuen (808-944-2243), e-mail: michelle.yuen@noaa.gov.

SUPPLEMENTARY INFORMATION:

Recovery Plan Background

Recovery plans describe actions considered necessary for the conservation and recovery of species listed under the Endangered Species Act of 1973 (ESA), as amended (16 U.S.C. 1531 et seq.). The ESA requires that recovery plans incorporate (1) objective, measurable criteria that, when met, would result in a determination that the species is no longer threatened or endangered; (2) site-specific management actions necessary to achieve the plan's goals; and (3) estimates of the time required and costs to implement recovery actions. The ESA requires the development of recovery plans for listed species unless such a plan would not promote the recovery of a particular species. NMFS's goal is to restore the endangered Hawaiian monk seal population to the point where they are again secure, self-sustaining members of their ecosystem and no longer need the protections of the ESA.

The Hawaiian monk seal has the distinction of being the only endangered marine mammal species whose entire range, historical and current, lies within the United States of America. The majority of the population of Hawaiian monk seals now occupies the northwestern Hawaiian Islands (NWHI) with six main breeding sub-populations. The species is also found in lower numbers in the main Hawaiian Islands (MHI), where the population size and range both appear to be expanding. The Hawaiian monk seal was listed as an endangered species under the ESA on November 23, 1976 (41 FR 51611). On April 30, 1986 (51 FR 16047), critical habitat was designated at all beach areas, lagoon waters, and ocean waters out to a depth of 10 fathoms around Kure Atoll, Midway, Pearl and Hermes Reef, Lisianski Island, Laysan Island, Gardner Pinnacles, French Frigate Shoals, Necker Island and Nihoa Island; critical habitat was extended to include Maro Reef and waters around all habitat out to the 20 fathom isobath on May 26, 1988. The best estimate of the total population size in 2006 is 1,202 seals.

The Recovery Plan was originally drafted by the Hawaiian Monk Seal Recovery Team at the request of the Assistant Administrator for Fisheries. The Recovery Team includes experts on marine mammals from the private sector, academia, and government, as well as experts on endangered species conservation. NMFS released the draft Recovery Plan and requested comments from the public on November 28, 2006 (71 FR 68801). A summary of comments and NMFS responses to comments are available electronically (see ADDRESSES). Concurrent with the public comment period, NMFS requested comments from four independent peer-reviewers.

The final Recovery Plan contains: (1) a comprehensive review of the Hawaiian monk seal population distribution, life history, and habitat use, (2) a threats assessment, (3) conservation efforts, (4) biological and recovery criteria for downlisting and delisting, (5) actions necessary for the recovery of the species, (6) an implementation schedule, and (7) estimates of time and cost to recovery. The threats assessment includes three levels of threats: (1) Crucial (ongoing and apparent threat at most sites in the NWHI), (2) Serious (potential cause of localized threats), and (3) Moderate (localized impacts possible but not considered a serious or immediate threat). The crucial threats to Hawaiian monk seals are: food limitation, entanglement, and shark predation. The serious threats to Hawaiian monk seals are: infectious disease, habitat loss, fishery interaction, male aggression, and human interaction. Finally, the moderate threats to Hawaiian monk seals are: biotoxins, vessel groundings and contaminants.

Criteria for the reclassification of the Hawaiian monk seal are included in the final Recovery Plan. In summary, Hawaiian monk seals may be reclassified from endangered to threatened when all of the following have been met: (1) aggregate numbers exceed 2,900 total individuals in the NWHI; (2) at least 5 of the 6 main sub-population in the NWHI are above 100 individuals, and the MHI population is above 500; (3) the survivorship of females in each subpopulation in the NWHI and in the MHI is high enough that, in conjunction with the birth rates in each subpopulation, the calculated population growth rate for each subpopulation is not negative. The population will be considered for a delisting if the downlisting criteria continue to be met for 20 consecutive years without new crucial or serious threats being identified. Time and cost for recovery actions are contained in the final Recovery Plan. The recovery program will cost $35,915,000 for the first five fiscal years and $378,425,000 to full recovery assuming the best case scenario that the population could grow to the stipulated total population size in the NWHI within 12 years and that the stipulated numbers in the MHI could be reached within 34 years.

In accordance with the 2003 Peer Review Policy as stated in Appendix R of the Interim Endangered and Threatened Species Recovery Planning Guidance, NMFS solicited independent peer-review on the draft Plan concurrent with the public comment period. Independent peer-reviews were requested from four scientists and managers with expertise in recovery planning, statistical analyses, fisheries, and marine mammals. Many of the recommendations that were made by the reviewers were addressed and provided in detail in the final plan.

5-year Review Background

Section 4(c)(2)(A) of the ESA requires that NMFS conduct a review of listed species at least once every five years. On the basis of such reviews under section 4(c)(2)(B), NMFS will determine whether or not any species should be removed from the list (delisted), or reclassified from endangered to threatened or from threatened to endangered. Delisting a species must be supported by the best scientific and commercial data available and only considered if such data substantiates that the species is neither endangered nor threatened for one or more of the following reasons: (1) the species is considered extinct; (2) the species is considered to be recovered; and/or (3) the original data available when the species was listed, or the interpretation of such data, were in error. Any change in Federal classification would require a separate rulemaking process.

The 5-year review considered the best scientific and commercial data and all new information that has become available since the listing determination or most recent status review. Categories of information include (A) species biology including, but not limited to, population trends, distribution, abundance, demographics, and genetics; (B) habitat conditions including, but not limited to, amount, distribution, and suitability; (C) conservation measures that have been implemented that benefit the species; (D) status and trends of threats; and (E) other new information, data, or corrections including, but not limited to, taxonomic or nomenclatural changes, identification of erroneous information contained in the List, and improved analytical methods. NMFS concluded that the status of the Hawaiian monk seal remains “endangered”.

NMFS announced the initiation of the 5-year review and requested information from the public on January 22, 2007 (72 FR 2650). Information was received from the Ocean Conservancy and the Marine Mammal Commission.

Conclusion

NMFS revised the final Recovery Plan for the Hawaiian Monk Seal and evaluated all comments received by the public as well as independent peer-reviewers. NMFS has also completed the first 5-year review for the Hawaiian Monk Seal based on public comments received and internal review. NMFS concludes that both the Recovery Plan and the 5-year review meet the requirements of the ESA.

Dated: August 16, 2007.
Angela Somma,
Chief, Endangered Species Division, Office of Protected Resources, National Marine Fisheries Service.

[FR Doc. E7-16600 Filed 8-21-07; 8:45 am]

BILLING CODE 3510-22-S